Presidential Determination No. 2019-05 of November 29, 2018

Presidential Determination With Respect to the Efforts of Foreign Governments Regarding Trafficking in Persons

Memorandum for the Secretary of State

Consistent with section 110 of the Trafficking Victims Protection Act of 2000 (22 U.S.C. 7107) (the “Act”), as amended, I hereby determine as follows:

As provided for in section 110(d)(1)(A)(i) of the Act, I determine that the United States will not provide nonhumanitarian, nontrade-related assistance to the Governments of Belarus, Belize, Bolivia, Burma, Burundi, China, Comoros, the Republic of the Congo (ROC), the Democratic Republic of the Congo (DRC), Equatorial Guinea, Gabon, Iran, Laos, Mauritania, Papua New Guinea (PNG), South Sudan, Turkmenistan, and Venezuela for Fiscal Year (FY) 2019 until such governments comply with the minimum standards or make significant efforts to bring themselves into compliance with the Act.

As provided for in section 110(d)(1)(A)(ii) of the Act, I determine that the United States will not provide nonhumanitarian, nontrade-related assistance to, or allow funding for participation in educational and cultural exchange programs by officials or employees of, the Governments of Eritrea, the Democratic People's Republic of Korea (DPRK), Russia, and Syria for FY 2019 until such governments comply with the Act's minimum standards or make significant efforts to bring themselves into compliance with the Act.

As provided for in section 110(d)(1)(B) of the Act, I hereby instruct the United States Executive Director of each multilateral development bank, as defined in the Act, and of the International Monetary Fund to vote against and use best efforts to deny any loan or other utilization of the funds of the respective institution (other than for humanitarian assistance; for trade-related assistance; or for development assistance that directly addresses basic human needs, is not administered by the government of such country, and confers no benefit to that government) for the Governments of Bolivia, Burma, Burundi, China, Comoros, ROC, DRC, DPRK, Equatorial Guinea, Gabon, Iran, Laos, Mauritania, Russia, South Sudan, Syria, and Venezuela for FY 2019 until such governments comply with the minimum standards or make significant efforts to bring themselves into compliance with the Act.

Consistent with section 110(d)(4) of the Act, I determine that a partial waiver to allow International Military Education and Training (IMET), Foreign Military Financing (FMF), and Foreign Military Sales (FMS) related to FMF with respect to Belize would promote the purposes of the Act or is otherwise in the national interest of the United States;

Consistent with section 110(d)(4) of the Act, I determine that a partial waiver to allow assistance described in section 110(d)(1)(A)(i) of the Act with respect to PNG—with the exception of Peacekeeping Operations (PKO), FMS not related to FMF, and Excess Defense Articles (EDA)—would promote the purposes of the Act or is otherwise in the national interest of the United States;

Consistent with section 110(d)(4) of the Act, I determine that a partial waiver with respect to Eritrea to allow funding for educational and cultural exchange programs described in section 110(d)(1)(A)(ii) of the Act, and a partial waiver to allow assistance described in section 110(d)(1)(A)(ii) of the Act with respect to Eritrea—with the exception of FMF, FMS, IMET, EDA, and PKO—would promote the purposes of the Act or is otherwise in the national interest of the United States;

Consistent with section 110(d)(4) of the Act, I determine that the provision of all programs, projects, and activities described in section 110(d)(1)(A)(i) of the Act to the Governments of Belarus and Turkmenistan would promote the purposes of the Act or is otherwise in the national interest of the United States; and

Consistent with section 110(d)(4) of the Act, I determine that providing assistance described in section 110(d)(1)(B) of the Act to Belarus, Belize, Eritrea, PNG, and Turkmenistan would promote the purposes of the Act or is otherwise in the national interest of the United States.

You are authorized and directed to submit this determination, the certification required by section 110(e) of the Act, and the Department of State's Memorandum of Justification, on which I have relied, to the Congress, and to publish the determination in the Federal Register.

THE WHITE HOUSE,

Washington, November 29, 2018

[FR Doc. 2018-27696

Filed 12-19-18; 8:45 am]

Billing code 4710-10-P